ENVIRONMENTAL PROTECTION AGENCY

[EPA-HQ-OECA-2005-0070; FRL-8199-3]

Agency Information Collection Activities; Submission for OMB Review and Approval; Comment Request; NESHAP for Hydrochloric Acid Production (Renewal), EPA ICR Number 2032.04, OMB Control Number 2060-0529

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and costs.

DATES: Additional comments may be submitted on or before August 18, 2006.

ADDRESSES: Submit your comments, referencing docket ID number EPA-HQ-OECA-2005-0070, to (1) EPA online using http://www.regulations.gov (our preferred method), or by e-mail to docket.oeca@epa.gov, or by mail to: EPA Docket Center (EPA/DC), Environmental Protection Agency, Enforcement and Compliance Docket and Information Center, Mail Code 2201T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Learia Williams, Compliance Assessment and Media Programs Division (CAMPD), Office of Compliance (OC), (Mail Code 2223A), Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On September 21, 2005 (70 FR 55368), EPA sought comments on this ICR pursuant to 5 CFR 1320.8(d). EPA received no comments. Any additional comments on this ICR should be submitted to EPA and OMB within 30 days of this notice.

EPA has established a public docket for this ICR under Docket ID number EPA-HQ-OECA-2005-0070, which is available for online viewing at http://www.regulations.gov, or in person viewing at the Enforcement and Compliance Docket in the EPA Docket Center (EPA/DC), EPA West, Room B102, 1301 Constitution Avenue, NW., Washington, DC. The EPA/DC Public Reading Room is open from 8 a.m. to 4:30 p.m., Monday through Friday, excluding legal holidays. The telephone number for the Reading Room is (202) 566-1744, and the telephone number for the Enforcement and Compliance Docket is (202) 566-1752.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NESHAP for Hydrochloric Acid Production (Renewal).

ICR Numbers: EPA ICR Number 2032.04, OMB Control Number 2060-0529.

ICR Status: This ICR is schedules to expire on July 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The National Emission Standards for Hazardous Air Pollutants (NESHAP) for hydrochloric acid production were proposed on September 18, 2001, (66 FR 48174), final rule on April 17, 2003 (68 FR 19076), amended on August 24, 2005 (70 FR 49530), and promulgated on April 7, 2006, (71 FR 17738). These standards apply to each existing, new, or reconstructed effected major source at a hydrochloric acid (HCl) production facility.

An HCl production facility is a collection of units operations and equipment associated with the production of liquid HCl products. The hazardous air pollutants (HAP) identified as being emitted from HCl production sources are hydrochloric acid (HCl) and chlorine (Cl2). A major source of HAP is one that emits or has the potential to emit any single HAP at a rate of 9.07 megagrams (10 tons) or more per year or any combination of HAP at a rate of 22.68 megagrams (25 tons) or more per year. Respondents must submit one-time only notifications, compliance status report, and initial performance test results. Owners/operators are also required to maintain records of the occurrence and duration of any startup, shutdown, or malfunction in the operations of an affected facility, or any period during which the monitoring system is inoperative. Semiannual summary reports are also required.

Any owner or operator subject to the provisions of this subpart must maintain a file of these measurements, and retain the file for at least five years following the collection of such measurements, maintenance reports, and records. All reports are sent to the delegated state or local authority. In the event that there is no such delegated authority, the reports are sent directly to the EPA regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 541 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Hydrochloric acid (HCl) production facility.

Estimated Number of Respondents: 75.

Frequency of Response: On occasion, initially, annually and semiannually.

Estimated Total Annual Hour Burden: 94,104.

Estimated Total Annual Costs: $8,647,759 which includes $54,000 annualized capital startup costs, $634,000 annualized O&M costs, and $7,959,759 annual labor costs..

Changes in the Estimates: There is an increase of 44,785 hours in the total estimated burden currently identified in the OMB Inventory of Approved ICR Burdens. The increase in burden from the most recently approved ICR is due to the requirements of the rule. Because of the requirements, the respondent universe varied among the different activities, since not all of the respondents must complete each activity each year. It is not until the third year following promulgation that all sources must be in compliance and thus, subject to the rule. We are therefore, accounting for all of the sources that are subject to the recordkeeping and reporting requirements in this ICR. There is an increase of two additional sources per year over the three years of this ICR. There was an increase in the labor rates which also contributed to an increase in the cost burden.

There is an increase in the capital/startup and operations and maintenance (O&M) costs from the previous ICR. This is due to the fact that all sources are presently in compliance with the standards. The increase in cost can also be attributed to an increase in the number of sources.

Dated: July 11, 2006.
Sara Hisel McCoy,
Acting Director, Collection Strategies Division.

[FR Doc. E6-11433 Filed 7-18-06; 8:45 am]

BILLING CODE 6560-50-P